DEPARTMENT OF THE INTERIOR

Fish and Wildlife Service

Notice of Availability of the Assessment Plan for the Palmerton Natural Resource Damage Assessment in Carbon, Lehigh, Monroe, and Northampton Counties, PA

AGENCY: U.S. Fish and Wildlife Service, Department of the Interior.

ACTION: Notice of availability.

SUMMARY: The U.S. Fish and Wildlife Service (FWS), acting as lead administrative Trustee, on behalf of the National Park Service (NPS), the National Oceanic and Atmospheric Administration (NOAA), the Pennsylvania Game Commission (PGC), the Pennsylvania Fish and Boat Commission (PFBC), the Pennsylvania Department of Environmental Protection (PDEP), and the Pennsylvania Department of Conservation and Natural Resources (PDCNR), jointly known as the Palmerton Natural Resource Trustee Council, announces the release of the Palmerton Natural Resource Damage Assessment (NRDA) Plan (Plan) for public review. The Plan describes the Trustee Council's proposal to assess potential injury to natural resources as a result of a release of hazardous substances from the Palmerton Zinc Pile Superfund Site (Site), Palmerton, Pennsylvania.

DATES: Written comments must be submitted on or before September 14, 2005.

ADDRESSES: Written comments or materials regarding the Plan should be sent to: Steve Klassen, U.S. Fish and Wildlife Service, 315 South Allen Street, Suite 322, State College, Pennsylvania 16801. Requests for copies of the Plan may be made to the same address. The Plan will also be available at the Palmerton Library, 402 Delaware Avenue, Palmerton, Pennsylvania 18071, and on the Internet at the following sites: http://www.fws.gov/contaminants/restorationplans/palmerton/palmerton.cfm, http://www.dep.state.pa.us/dep/deputate/airwaste/wm/remserv/nrd/nrdhome.html.

FOR FURTHER INFORMATION CONTACT: Steve Klassen, U.S. Fish and Wildlife Service, Pennsylvania Field Office, 315 South Allen Street, Suite 322, State College, Pennsylvania 16801. Interested parties may also call 814-234-4090 for further information.

SUPPLEMENTARY INFORMATION: The Site is located in the Ridge and Valley Province of Carbon, Lehigh, and Northampton Counties, Pennsylvania. Facilities at the Site include the East and West Plants of the former New Jersey Zinc Company, a primary zinc smelting facility. This facility discharged metals to the surrounding environment via air emissions and through the release of solid wastes, including the creation of a large waste pile (the “cinder bank”). Hazardous substances released to the environment from these facilities include arsenic, cadmium, chromium, copper, lead, manganese, and zinc (metals). The release of these metals resulted in the contamination and defoliation of thousands of acres of land including Federal (NPS) and State (PGC) lands adjacent to the Appalachian National Scenic Trail. Past and ongoing releases of metals have also adversely affected area waters including Aquashicola Creek, the Lehigh River, and groundwater. Due to hazardous substances released from industrial activities, the Site was included on the National Priorities List in 1983, by the U.S. Environmental Protection Agency (EPA). The EPA is acting as the lead response agency overseeing cleanup of the Site, which is being carried out by the potentially responsible parties, Viacom International, Inc. and Horsehead Corporation.

Under Federal regulations, the Federal government, States, and Indian tribes are authorized as natural resource trustees to recover damages from responsible parties for injuries to natural resources caused by the release of hazardous substances. This process is intended to compensate the public for lost natural resources and to restore services provided by those resources. The natural resource trustees for this matter include: The FWS; the NPS; the NOAA; the PGC; the PFBC; the PDEP; and the PDCNR.

The Trustees have developed a Memorandum of Agreement that provides a framework for continued cooperation and coordination. The Trustees have determined through a Preassessment Screen that an assessment is warranted. A Notice of Intent (NOI) to perform an assessment was issued to Viacom International, Inc., the Potentially Responsible Party, indicating that the Trustees intend to proceed with NRDA procedures for the Site. The NOI invited Viacom to participate in a cooperative injury assessment, and Viacom has since entered into a cooperative funding agreement designed to provide a framework for a cooperative NRDA process.

The purpose of this Plan is to guide the actions of the Trustees through the NRDA process. This Plan outlines the Trustees' proposed plans to document and evaluate potentially injured resources. The Trustees intend to focus on the loss of ecological and human use services resulting from injuries to natural resources. Such lost services include impairment of terrestrial, floodplain, and aquatic flora and fauna; supporting habitats; and public use of natural resources (e.g., hunting, fishing, hiking, bird watching).

The Trustees will assess suspected injuries to natural resources using existing data, as well as those proposed to be collected as part of the assessment. The Trustees will further analyze the identified natural resource injuries to evaluate the lost ecological and human use services provided by those resources. The evaluation will focus on baseline services that would have been provided had the hazardous substances not been released.

Interested members of the public are invited to review and comment on the Plan. Copies of the Plan are available for review at the Service's Pennsylvania Field Office located at 315 South Allen Street, State College, Pennsylvania 16801, the Palmerton Library located at 402 Delaware Avenue, Palmerton, Pennsylvania 18071, and on the Internet at: http://www.fws.gov/contaminants/restorationplans/palmerton/palmerton.cfm, http://www.dep.state.pa.us/dep/deputate/airwaste/wm/remserv/nrd/nrdhome.html.

Author: The primary author of this notice, on behalf of the Trustee Council, is Steve Klassen, U.S. Fish and Wildlife Service, Pennsylvania Field Office, 315 South Allen Street, State College, Pennsylvania 16801.

Authority: The authority for this action is the Comprehensive Environmental Response, Compensation and Liability Act of 1980 as amended, commonly known as Superfund (42 U.S.C. 9601 et seq.), and the Natural Resource Damage Assessment Regulations found at 43 CFR part 11.

Dated: July 14, 2005.
Geoffrey L. Haskett,
Acting Regional Director, Region 5, U.S. Fish and Wildlife Service, U.S. Department of the Interior, Designated Authorized Official.

[FR Doc. 05-16102 Filed 8-12-05; 8:45 am]

BILLING CODE 4310-55-P